DEPARTMENT OF COMMERCE

Patent and Trademark Office

Agency Information Collection Activities; Submission to the Office of Management and Budget (OMB) for Review and Approval; Comment Request; Trademark Petitions

AGENCY: United States Patent and Trademark Office, Department of Commerce.

ACTION: Notice of information collection; request for comment.

SUMMARY: The United States Patent and Trademark Office (USPTO), as required by the Paperwork Reduction Act of 1995, invites comments on the extension and revision of an existing information collection: 0651-0061 (Trademark Petitions). The purpose of this notice is to allow 60 days for public comment preceding submission of the information collection to OMB.

DATES: To ensure consideration, comments regarding this information collection must be received on or before September 9, 2024.

ADDRESSES: Interested persons are invited to submit written comments by any of the following methods. Do not submit Confidential Business Information or otherwise sensitive or protected information.

• Email: InformationCollection@uspto.gov. Include “0651-0061 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Request for additional information should be directed to Catherine Cain, Attorney Advisor, Office of the Commissioner for Trademarks, United States Patent and Trademark Office, P.O. Box 1450, Alexandria, VA 22313-1450; by telephone at 571-272-8946; or by email at Catherine.Cain@uspto.gov with “0651-0061 comment” in the subject line. Additional information about this information collection is also available at http://www.reginfo.gov under “Information Collection Review.”

SUPPLEMENTARY INFORMATION:

I. Abstract

The United States Patent and Trademark Office (USPTO) administers the Trademark Act (Act), 15 U.S.C. 1051 et seq., which provides for the registration of trademarks, service marks, collective membership marks, and certification marks. Individuals and businesses that use or intend to use such marks in commerce may file an application to register their marks with the USPTO.

This information collection covers various trademark-related communications to the USPTO, including letters of protest, requests to make special, responses to petition inquiry letters, petitions to make special, requests to restore a filing date, and requests for reinstatement. This information collection also incorporates petitions for ex parte expungement or reexamination (PTO-2312). Ex parte expungement and reexamination proceedings were established by the Trademark Modernization Act of 2020 (TMA), Public Law 116-260 (Dec. 27, 2020), to cancel, either in whole or in part, registered marks for which the required use in commerce was not made. The burden estimate for petitions for ex parte expungement or reexamination was previously contained in OMB Control No. 0651-0086, Changes to Implement Provisions of the Trademark Modernization Act, but is being transferred into this information collection for efficiency. Finally, this information collection consolidates into a single burden estimate the burden for responses to petition inquiry letters (PTO-2305), which was previously reflected in both OMB Control No. 0651-0086 and this information collection.

The information covered in this collection is used by the public for a variety of private business purposes related to establishing and enforcing trademark rights. Information relating to the registration of a trademark is made available to the public by the USPTO. However, the release of information in a letter of protest is controlled and may be available only upon request.

II. Method of Collection

Items in this information collection must be submitted electronically. In limited circumstances, applicants may also be permitted to submit the information in paper form, by mail, or by hand delivery.

III. Data

OMB Control Number: 0651-0061.

Forms:

• PTO-2303 (Letter of Protest)

• PTO-2304 (Request to Make Special)

• PTO-2305 (Response to Petition to Director Inquiry Letter)

• PTO-2306 (Petition to Make Special)

• PTO-2307 (Request to Restore Filing Date)

• PTO-2308 (Request for Reinstatement)

• PTO-2312 (Petition for Expungement or Reexamination Form)

Type of Review: Extension and revision of a currently approved information collection.

Affected Public: Private sector.

Respondent's Obligation: Required to obtain or retain benefits.

Estimated Number of Annual Respondents: 5,813 respondents.

Estimated Number of Annual Respondents: 5,813 respondents.

Estimated Number of Annual Responses: 5,813 responses.

Frequency: On occasion.

Estimated Time per Response: The USPTO estimates that the responses in this information collection will take the public approximately between 40 minutes (0.67 hours) and 4.5 hours to complete. This includes the time to gather the necessary information, create the document, and submit the completed request to the USPTO.

Estimated Total Annual Respondent Burden Hours: 7,893 hours.

Estimated Total Annual Respondent Hourly Cost Burden: $3,528,171.

Table 1—Total Burden Hours and Hourly Costs to Private Sector Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Letter of Protest (PTO-2303) | 3,243 | 1 | 3,243 | 1.5 | 4,865 | $447 | $2,174,655
2 | Request to Make Special (PTO-2304) | 800 | 1 | 800 | 0.83 (50 minutes) | 664 | 447 | 296,808
3 | Response to Petition to Director Inquiry Letter (PTO-2305) | 800 | 1 | 800 | 1 | 800 | 447 | 357,600
4 | Petition to Make Special (PTO-2306) | 300 | 1 | 300 | 0.83 (50 minutes) | 249 | 447 | 111,303
5 | Request to Restore Filing Date (PTO-2307) | 40 | 1 | 40 | 0.83 (50 minutes) | 33 | 447 | 14,751
6 | Request for Reinstatement (PTO-2308) | 400 | 1 | 400 | 1 | 400 | 447 | 178,800
7 | Petition for Ex Parte Expungement (PTO-2312) | 90 | 1 | 90 | 4.5 | 405 | 447 | 181,035
8 | Petition for Ex Parte Reexamination (PTO-2312) | 100 | 1 | 100 | 4.5 | 450 | 447 | 201,150
9 | Response to Petition for Expungement or Reexamination Inquiry Letter (PTO-2312) | 40 | 1 | 40 | 0.67 (40 minutes) | 27 | 447 | 12,069
| Totals | 5,813 |  | 5,813 |  | 7,893 |  | 3,528,171
¹ 2023 Report of the Economic Survey, published by the Committee on Economics of Legal Practice of the American Intellectual Property Law Association (AIPLA); pg. F-41. The USPTO uses the average billing rate for intellectual property work in all firms which is $447 per hour (https://www.aipla.org/home/news-publications/economic-survey).

Estimated Total Annual Respondent Non-hourly Cost Burden: $313,260. There are no capital start-up, maintenance costs, or recordkeeping costs associated with this information collection. However, the USPTO estimates that the total annual non-hour cost burden for this information collection, in the form of filings fees and postage, is $313,260.

Filing Fees

There are fees associated with submitting the petitions and requests in this information collection for a total of $313,250 per year.

Table 2—Filing Fees
Item No. | Fee code | Item | Estimated annual responses | Filing fee ($) | Non-hourly cost burden
|  |  | (a) | (b) | (a) × (b) = (c)
1 | 7011 | Letter of Protest | 3,243 | $50 | $162,150
4 | 7005 | Petition to Make Special (Electronic) | 299 | 250 | 74,750
4 | 6005 | Petition to Make Special (Paper) | 1 | 350 | 350
7 | 7014 | Petition for Ex Parte Expungement | 90 | 400 | 36,000
8 | 7014 | Petition for Ex Parte Reexamination | 100 | 400 | 40,000
|  | Totals | 3,733 |  | 313,250

Postage Costs

In limited circumstances, applicants may be permitted to submit the information in paper form by mail, fax, or hand delivery. Applicants and registrants incur postage costs when submitting information to the USPTO by mail through the United States Postal Service. The USPTO estimates that 1 item will be submitted by mail. The USPTO estimates that the average postage cost for a mailed submission, using a Priority Mail legal flat rate envelope, will be $10.15. Therefore, the USPTO estimates the total mailing costs for this information collection will be $10.

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2024-15123 Filed 7-9-24; 8:45 am]

BILLING CODE 3510-16-P